ENVIRONMENTAL PROTECTION AGENCY

[ER-FRL-9036-7]

Environmental Impact Statements; Notice of Availability

Responsible Agency: Office of Federal Activities, General Information (202) 564-7146 or http://www2.epa.gov/nepa/.

Weekly receipt of Environmental Impact Statements

Filed 12/11/2017 Through 12/15/2017

Pursuant to 40 CFR 1506.9.

Notice

Section 309(a) of the Clean Air Act requires that EPA make public its comments on EISs issued by other Federal agencies. EPA's comment letters on EISs are available at: http://cdxnodengn.epa.gov/cdx-nepa-public/action/eia/search.

EIS No. 20170241, Final, BLM, WV, ADOPTION—Mountain Valley Project and Equitrans Expansion Project, Review Period, Contact: Victoria Craft (601) 919-4655.

EIS No. 20170242, Final, NPS, NY, Final Fire Island Wilderness Breach Management Plan/Environmental Impact Statement, Review Period Ends: 01/22/2018, Contact: Kaetlyn Jackson 631-687-4770.

EIS No. 20170243, Draft, DOT, TX, Dallas to Houston High Speed Rail, Comment Period Ends: 02/20/2018, Contact: Kevin Wright 202-493-0845.

Dated: December 19, 2017.
Kelly Knight,
Director, NEPA Compliance Division, Office of Federal Activities.

[FR Doc. 2017-27636 Filed 12-21-17; 8:45 am]

BILLING CODE 6560-50-P